DEPARTMENT OF TRANSPORTATION

Federal Motor Carrier Safety Administration

Qualification of Drivers; Exemption Applications; Vision

AGENCY: Federal Motor Carrier Safety Administration (FMCSA), DOT.

ACTION: Notice of denials.

SUMMARY: FMCSA announces its denial of 381 applications from individuals who requested exemptions from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Dr. Mary D. Gunnels, Director, Medical Programs, 202-366-4001, U.S. Department of Transportation, FMCSA, 1200 New Jersey Avenue, SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal vision standard for a renewable two-year period if it finds “such an exemption would likely achieve a level of safety that is equivalent to, or greater than, the level that would be achieved absent such an exemption.” The procedures for requesting an exemption are set out in 49 CFR part 381.

Accordingly, FMCSA evaluated these 381 individual exemption requests on their merits and made the determinations that these applicants do not satisfy the criteria eligibility or meet the terms and conditions of the Federal exemption program. Each applicant has, prior to this notice, received a letter of final disposition on his/her exemption request. Those decision letters fully outlined the basis for the denial and constitute final Agency action. The list published today summarizes the Agency's recent denials as required under 49 U.S.C. 31315(b)(4) by periodically publishing names and reasons for denials.

The following 55 applicants lacked sufficient driving experience during the three-year period prior to the date of their application:

Balsman, Stanley W.

Barr, Michael J.

Berheimer, Mark S.

Biddison, Jr., William G.

Bishop, Jr., Raymond E.

Brown, Dean N.

Burgess, James W.

Burns, Jerry A.

Campos, Basiliom

Cox, Michael L.

Crosby, Blake L.

Dunn, Darby K.

Dykes, Robert L.

Dykman, David L.

Eaton, Matthew C.

Edenfield, Christopher S.

Ellis, Jeffery K.

Freeman, Jr., George

Furcht, Thomas C.

Gaither, Larry N.

Gary, Dean A.

Goodapple, Jeanette

Hand, Terry O.

Hankins, Gerald W.

Harper, Larry

Hickman, James W.

Higgins, David N.

Ingram, George M.

Lair, Christopher

Lanuez, Richard A.

Mans, David R.

Martinez, Michael M.

McKinley, Haley E.

Morris, Richan A.

Ottens, John P.

Penner, Stuart

Phillips, Leonoth J.

Prill, Robert J.

Prouty, Norman L.

Ramirez, Blas

Rhodes, Jerry W.

Rodriguez, Juan

Ruzicka, Kent W.

Sarphie, Jeffrey E.

Schmidt, Jr., Herbert J.

Screws, John

Sharp, Richard

Shultz, Rodney A.

Sida, Jose M.

Smallman, David S.

Swann, III, George S.

Ward, Lawrence R.

Watts, Gary L.

Williamson, Jeremy D.

Zehner, Jon T.

The following 49 applicants did not have any experience operating a CMV.

Alvarado, Roberto

Ashford, Michael

Batteiger, Alan S.

Bodie, Jay M.

Broyles, Carl D.

Buck, Donald H.

Butry, William N.

Carter, Richard L.

Cozart, Ste'phon J.

Dempsey, John D.

DeSmith, Robert D.

Dixon, Daryl D.

Doman, Gary

Easton, James A.

Frandin, Kelvin

Hansell, Brad

Hartzell, Sean M.

Haymon, Roland L.

Hudgins, James M.

Hurst, Bryan E.

Ivery, Mathias

Jensen, John

Jones, Anleka E.

Jones, Dale A.

Kadlec, Mark J.

Knapp, Gerald W.

Lacosse, Chad

Langford, Harry D.

Main, Stacy A.

McIntosh, Thomas P.

McWilliams, Joseph B.

Moore, Arthur L.

Moreno, Salvador P.

Moultrie, Jr., Moses

Nesto, Gina M.

Paynter, Paul S.

Ratcliff, Jr., Robert

Rexhaj, Avni

Rhoads, Matthew S.

Rogers, Adam E.

Scanlon, David

Shuff, William H.

Silva, Hector

Steemblock, Pam J.

Thomas, James

Townsend, Dewayne K.

Ugarte, Salvador

Veloz, Richard S.

Weems, Timothy M.

The following 82 applicants did not have 3 years of experience driving a CMV on public highways with the vision deficiency.

Alford, David

Anderson, Victor A.

Arendt, Dennis

Bard, James B.

Batton, Ralph S.

Bejarano, Luis A.

Bellon, Steven W.

Bohle, Ernest E.

Borkholder, Vernon

Braswell, Jimmie E.

Brenaman, Bradley A.

Burnam, Jonathan C.

Burns, John

Carrington, Randal

Carswell, Tracy W.

Carter, Ronald

Chauhan, Satwinder S.

Clark III, Curtis

Cleveland, Travis E.

Corrales, Ramon A.

Courville, Kenneth

Dale, Lawerence E.

Davidson, John

Davis, Donald

Dotter, Kurt E.

Edwards, Cleveland

Ellis, Bruce A.

Fierro, Saul

Fleming, William D.

Garvin, Jay M.

Greenfield, Larry L.

Hare, Dwight A.

Hargrove, Raymond C.

Harrison, Timothy E.

Heaps, Isaac P.

Hendren, Dillon L.

Henifin, Mark

Hever, Jr., Frank S.

Holder, Samuel

Honeywell, Verne A.

Johnson, William C.

Jones, Paul D.

Julian, Charles

Lab, Kenneth Wade

Lampus, Jr., Richard D.

Lofthus, Barry G.

Makus, Fred A.

Messier, Charles D.

Miller, Vernie H.

Molenaar, Dale R.

Moore, Richard E.

Nevezi, John

Nickel, Jeffrey D.

Nowviock, Al V.

Parks, Willie L.

Perry, Sr., Christopher B.

Price, Dean L.

Prince, Kenneth W.

Proctor, Gilbert D.

Quarles, Chad M.

Rebhahn, Craig

Reece, Tommy R.

Rhodes, Clifford W.

Rigney, Kevin J.

Roberts, Kyle

Robertson, Billy D.

Shaw, Mark R.

Slayton, Johnny J.

Stanten, Leonard R.

Stanton, Larry E.

Stavedahl, Curtis R.

Strub, Jeremy M.

Survis, Thomas L.

Thomas, George W.

Thompson, Joe L.

Vasquez, Joel

Vickerman, Ronald E.

Von Haden, Norman L.

Warnock, Melvin

White, Jeffrey S.

Williams, Charles

Woosley, Darrell F.

The following 32 applicants did not have 3 years of recent experience driving a CMV with the vision deficiency.

Boersma, Michael L.

Brock, Jim

Dahleen, Larry A.

Foster, Kelly L.

Frank, Bradley D.

Frazier, Jr., Willie

Furgerson, Danny F.

Garza, Jr., Gabino

Gelats, Miguel E.

Gillespie, Larry D.

Gowens, Eddie L.

Hettinger, Edward

Hill, Jr., Albert J.

Jerkovich, Frank

Kennedy, John E.

Leonard, Richard B.

Lococo, Anthony

McDaniel, Bobby G.

McGrew, Charles E.

McLaughlin, James F.

Olson, Harold J.

Pate, Ronald L.

Paulson, Michael A.

Perryman, Duane R.

Rush, Jr., Kenneth L.

Schafer, Justin M.

Seagroves, Larry K.

Serrano, Manuel A.

Smiley, Richard

Smith, Matthew

Steckmyer, Mark A.

Tisdale, Raphis L.

The following 51 applicants did not have sufficient driving experience over the past 3 years under normal highway operating conditions.

Bennett, Stephen T.

Bierschbach, James B.

Brawley, Lawrence

Clem, Michael G.

Cliffe, Terry L.

Conner, Harvey D.

Cumbee, Eddie L.

Dewey, Scott H.

Dixon, David J.

Espinoza, Miguel H.

Fossum, Jr., Kyle K.

Games, George J.

Goetze, Horst W.

Greenwood, James

Greil, Bruce J.

Hammond, Latashia L.

Handy, Kenneth L.

Hartigan, Patrick T.

Hilmer, Steven H.

Isadore, James

Johnson, Charles

Keeling, Alton A.

Kleen, Keith D.

Kniesly, Nickolas L.

Kushak, Joseph K.

Lewis, Christopher W.

Maxwell, Brian A.

McGinley, Patrick M.

Mishler, Manford C.

Mozee, Phillip H.

Nordrum, Joseph H.

Ontiiveros, Joe E.

Pagan, Pedro L.

Parker, Milton

Perry, Suzanne M.

Peterson, David A.

Popp, Francis

Prewett, Paul

Prince, Kenneth N.

Robbins, Thomas G.

Serfass, Eugene A.

Simmons, Rodger S.

Taylor, Wade D.

Terry, Charles A.

Toews, Delton D.

Varga, Paul G.

Walker, Ronald L.

West, Andrew F.

Whitehead, Hilliard

Wilburn, Wesley L.

Yeilding, Robert A.

One applicant, Larry D. Neely, had more than 2 commercial motor vehicle violations during a 3-year period and/or application process. Each applicant is only allowed 2 moving citations.

One applicant, Sean C. Beland, did not have sufficient peripheral vision in the better eye to qualify for an exemption.

One applicant, Donald M. Neil, had other medical conditions making applicant otherwise unqualified under the Federal Motor Carrier Safety Regulations. All applicants must meet all other physical qualifications standards in 49 CFR 391.41(b)(1-13).

One applicant, Danny F. Ahlgren, had more than 2 serious CMV violations within a three-year period. Each applicant is allowed a total of 2 moving violations, one of which can be serious.

The following 11 applicants had commercial driver's licenses suspensions during the three-year review period in relation to a moving violation. Applicants do not qualify for an exemption with a suspension during the three-year period.

Carman, Mitchell L.

Couch, John L.

Day, Richard R.

MacInnis, Robert J.

Pellom, Jr., Evert

Potthast, Michael D.

Skinner, Shane

Turley, Douglas M.

Turner, Emerson J.

Vidal, Moises L.

Witzel, Michaell

The following 7 applicants did not have verifiable proof of commercial driving experience over the past 3 years under normal highway operating conditions that would serve as an adequate predictor of future safe performance.

Farrow, Harold J.

Harris, Dave N.

Hough, Norman

Ochse, Raymond K.

Raley, Johnnie

Staley, Ronald W.

Wood, Wayne

The following 11 applicants did not hold a license which allowed operation of vehicles over 10,000 pounds for all or part of the three-year period.

Barnes, Matthew D.

Harris, Richard J.

Howell, David

Lins, James P.

Loebrick, Elvin E.

Lopez, Daniel L.

Rounsley, Michael W.

Routin, Kevin L.

Sancho, Mark

Updegrove, Greggory

Young, Walter H.

Two applicants, James W. Harris and Gene Schipper, were denied because their optometrist/ophthalmologist was not willing to state that Mr. Harris and Mr. Schipper are able to operate a CMV from a vision standpoint.

The following 27 applicants were denied for miscellaneous reasons.

Austin, David

Bottorff, Robert M.

Brown, Charlene

Bryan, Elvis J.

Campbell, Richard

Eakin, Bobby D.

Engle, Denice M.

Gardner, Eric W.

Gardner, James

Grant, Paul

Hilliard, James

Houle, Douglas F.

Jones, Dennis W.

Koceja, Douglas

Lake, Joseph

Lambert, Kevin R.

Livingston, Jr. Donald R.

Lowe, Jerry

Lowery, Eric R.

Moser, Gary P.

Oestmann, Ronald L.

Reed, Jr., James C.

Reid, Robert C.

Schreifels, Eldred

Sherman IV, Charles A.

Vazquez, Santos

Williams, Roy G.

One applicant, Thomas Williams, has not had stable vision for a 3-year period.

Two applicants, Plynie A. Deen and Leonard L. LaChance, never submitted required documents.

One applicant, Taylor B. Villeneuve, was a Canadian applicant.

Two applicants, Gene R. Foss and Earnest M. Meeks, did not meet the vision standard in the better eye.

Finally, the following 44 applicants met the current federal vision standards. Exemptions are not required for applicants that meet the current regulations for vision.

Abadie, Ronald G.

Ashe, Harry R.

Barr, Frank H.

Beier, Roger H.

Benton, Thomas F.

Bickers, Larry M.

Biggs, Dwayne A.

Brooks, Sherry L.

Brown, Bruce S.

Butler, Steven

Caldwell, Kenneth

Caluen, Robert G.

Costlow, James K.

Crachy, Mark S.

Czarneski, Franklyn J.

Downey, Michael

Duby, James C.

Ericson, Matthew A.

Farr, Thomas W.

Gallardo, Julio

Hambrick, Gary J.

Hoffman, Daryl A.

Jackson, Eddie, L.

Johnson, Donald

Johnson, Nicholas

Krill, Harold J.

Leary, Kevin C.

Ledford, David L.

Leriche, Samson

Majewski, Mariusz

Mann, Jonathan D.

McGaffey, Wesley L.

Myers, Michael

Nyman, Timothy C.

Oldacker, Edward

Peterson, Donald T.

Porter, Larry H.

Pringle, Juanita F.

Savely, Danny W.

Schwab, Charles F.

Stokes, Jr., Linwood L.

Tibbetts, Norman

Tousignant, Daniel

Whall, David

Issued on: July 30, 2008.
Larry W. Minor,
Associate Administrator for Policy and Program Development.

[FR Doc. E8-17858 Filed 8-4-08; 8:45 am]

BILLING CODE 4910-EX-P